DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet certain administrative needs of the Bureau of Land Management. The lands we surveyed are:

The plat representing the supplemental plat was prepared to correct certain lotting on the plat, in T. 5 N., R. 38 E., Boise Meridian, Idaho, was accepted October 23, 2003.

The plat representing the corrective dependent resurvey and dependent resurvey of portions of the west boundary (east boundary of T. 5 S., R. 6 E.), and the dependent resurvey of portions of the south boundary, the subdivisional lines and the 1910 meanders of the left bank of the Snake River in section 31, the subdivision of section 31, the 2002 meanders of the right bank of the Snake River in section 31, and the metes-and-bounds survey of Parcel A, section 31, in T. 5 S., R. 7 E., Boise Meridian, Idaho, was accepted November 26, 2003.

The plat, in 2 sheets, constituting the entire survey record, of the dependent resurvey of portions of the east boundary of T. 6 S., R. 6 E., north boundary, and subdivisional lines, the subdivision of section 6, and the survey of an access easement in section 6, in T. 6 S., R. 7 E., Boise Meridian, Idaho, was accepted November 26, 2003.

The plat representing the dependent resurvey of a portion of the Sixth Auxiliary Meridian East (east boundary), and a portion of the subdivisional lines, and the subdivision of section 13, and a metes-and-bounds survey in section 13, in T. 6 N., R. 24 E., Boise Meridian, Idaho, was accepted December 9, 2003.

These surveys were executed at the request of the Bureau of Land Management to meet certain administrative needs of the Bureau of Indian Affairs. The lands surveyed are:

The plats representing the dependent resurvey of a portion of the subdivisional lines, the subdivision of sections 23, 26, 27, and 28, and the survey of the 2001-2003 meanders and informative traverse of the Blackfoot River, the north boundary of the Fort Hall Indian Reservation, and portions of the 2001-2003 median line of the Blackfoot, all in sections 22, 23, 27, and 28, in T. 3 S., R. 34 E., Boise Meridian, Idaho, were accepted October 24, 2003.

The plat representing the dependent resurvey of a portion of the north boundary, and the subdivisional lines, the subdivision of sections 2 and 11, the survey of lots 2 and 3, and a metes-and-bounds survey in section 11, in T. 36 N., R. 3 W., Boise Meridian, Idaho, was accepted November 13, 2003.

The plat representing the supplemental plat was prepared to correct certain lotting in section 19, in T. 3 S., R. 35 E., Boise Meridian, Idaho, was accepted November 21, 2003.

The plat representing the dependent resurvey of a portion of the Boise Meridian (west boundary), and the subdivisional lines and the subdivision of section 19, in T. 37 N., R. 1 E., Boise Meridian, Idaho, was accepted December 29, 2003.

The plat representing the dependent resurvey of a portion of the subdivisional lines and the subdivision of sections 24 and 25, in T. 37 N., R. 1 W., Boise Meridian, Idaho was accepted December 29, 2003.

These surveys were executed at the request of the Bureau of Land Management to meet certain administrative needs of the National Park Service. The lands surveyed are:

The plat, in 2 sheets, constitutes the entire survey record of the dependent resurvey of portions of the north and east boundaries, and subdivisional lines, designed to restore the corners in their true original locations according to the best available evidence, and a metes-and-bounds survey of a portion of the Craters of the Moon National Monument in sections 2, 3, 11, 14, 24, and 25, in T. 6 S., R. 26 E., Boise Meridian, Idaho, was accepted November 18, 2003.

The plat constitutes the entire survey record of the dependent resurvey of portions of the south and west boundaries and subdivisional lines, designed to restore the corners in their true original locations according to the best available evidence, and a metes-and-bounds survey of a portion of the Craters of the Moon National Monument in sections 34 and 35, in T. 5 S., R. 26 E., Boise Meridian, Idaho, was accepted November 19, 2003.

Dated: January 8, 2004.
Gordon M. Dress,
Acting, Chief Cadastral Surveyor for Idaho.

[FR Doc. 04-776 Filed 1-13-04; 8:45 am]

BILLING CODE 4310-GG-P